DEPARTMENT OF ENERGY

Federal Energy Regulatory Commission

[Project No. 15032-000]

ECOsponsible, LLC; Notice of Preliminary Permit Application Accepted for Filing and Soliciting Comments, Motions To Intervene, and Competing Applications

On May 6, 2020, ECOsponsible, LLC, filed an application for a preliminary permit, pursuant to section 4(f) of the Federal Power Act (FPA), proposing to study the feasibility of hydropower at the existing Springville Dam located on Cattaraugus Creek in the town of Concord in Erie County, New York. The sole purpose of a preliminary permit, if issued, is to grant the permit holder priority to file a license application during the permit term. A preliminary permit does not authorize the permit holder to perform any land-disturbing activities or otherwise enter upon lands or waters owned by others without the owners' express permission.

The proposed Springville Dam Hydro Project would redevelop an abandoned project and would consist of the following: (1) An existing 338-foot-long and 40-foot-high concrete gravity dam with a 182-foot-long spillway; (2) an existing impoundment; (3) an existing powerhouse to be rebuilt and to include two new identical turbine-generator units with an installed capacity of 500 kilowatts each; (4) a new 4.8- to 13.2-kilovolt, 500-foot-long transmission line extending from the powerhouse to a grid interconnection point; and (5) appurtenant facilities. The proposed project would have an annual generation of 6.5 gigawatt-hours.

Applicant Contact: Dennis Ryan, ECOsponsible, LLC, P.O. Box 114, West Falls, NY 14170; phone: (716) 222-2188.

FERC Contact: Monir Chowdhury; phone: (202) 502-6736.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY).

More information about this project, including a copy of the application, can be viewed or printed on the “eLibrary” link of the Commission's website at http://www.ferc.gov/docs-filing/elibrary.asp. Enter the docket number (P-15032) in the docket number field to access the document. For assistance, contact FERC Online Support.

Dated: June 23, 2020.
Kimberly D. Bose,
Secretary.

[FR Doc. 2020-13916 Filed 6-26-20; 8:45 am]

BILLING CODE 6717-01-P